DEPARTMENT OF STATE

[Public Notice 3253]

Universal Postal Union Reform Survey

AGENCY: Department of State.

ACTION: Notice of briefing.

The Department of State will host a briefing on Wednesday, April 19, 2000, to discuss matters related to its on-going participation in the work of the Universal Postal Union (UPU).

Within the UPU, a “High Level Group on the Future Development of the UPU” is reviewing various reform initiatives. The Group has created a questionnaire to solicit the individual opinions of “stakeholders” in UPU operations. This questionnaire was sent to about 30 government and private sector agencies in the United States, with the request that the responses be returned to the UPU by March 30, 2000.

The central purpose of this briefing will be to discuss with the U.S. stakeholders the variety of opinions of the UPU that have been expressed, especially in the context of responses to the UPU questionnaire. This briefing will also provide information on other aspects of the High Level Group's work, the March 9 Congressional hearing on international postal policy, and the recent GAO report on this issue. The briefing will be chaired by Ambassador E. Michael Southwick of the Department of State.

The briefing will be held from 2:00 pm until approximately 4:00 pm, on April 19, 2000, in Room 1207 of the Department of State, 2201 C Street, NW, Washington, DC. The briefing will be open to the public up to the capacity of the meeting room.

Entry to the Department of State building is controlled and will be facilitated by advance arrangements. In order to arrange admittance, persons desiring to attend the briefing should, no later than noon on April 18, 2000, notify the Office of Technical and Specialized Agencies, Bureau of International Organization Affairs, Department of State, preferably by fax, providing the name of the meeting and the individual's name, Social Security number, date of birth, professional affiliation, address and telephone number. The fax number to use is (202) 647-8902. Voice telephone is (202) 647-2752. This request applies to both government and non-government individuals.

All attendees must use the Department of State diplomatic entrance at 22nd and C Streets, NW. One of the following means of identification will be required for admittance: any U.S. driver's license with photo, a passport, or any U.S. Government agency identification card. Questions concerning the briefing may be directed to Mr. Neil Boyer at (202) 647-2752.

Dated: March 7, 2000.
Lynne Lambert,
Director, Office of Technical and Specialized Agencies, Bureau of International Organization Affairs, Department of State.

[FR Doc. 00-6408 Filed 3-14-00; 8:45 am]

BILLING CODE 4710-19-U